DEPARTMENT OF COMMERCE

Foreign-Trade Zones Board

[B-79-2013]

Subzone 33D; Application for Subzone Expansion; Mitsubishi Electric Power Products Inc.; Southwestern Pennsylvania

An application has been submitted to the Foreign-Trade Zones (FTZ) Board by the Regional Industrial Development Corporation, grantee of FTZ 33, requesting additional sites within Subzone 33D on behalf of Mitsubishi Electric Power Products Inc. (MEPPI) in southwestern Pennsylvania. The application was submitted pursuant to the provisions of the Foreign-Trade Zones Act, as amended (19 U.S.C. 81a-81u), and the regulations of the FTZ Board (15 CFR part 400). It was formally docketed on August 16, 2013.

Subzone 33D was approved on December 15, 2004 (Board Order 1362, 69 FR 77986, 12/29/2004) and currently consists of four sites: Site 1 (7 acres) 510-512 Keystone Drive, Warrendale, Allegheny County; Site 2 (12 acres) 530 Keystone Drive, Warrendale, Allegheny County; Site 4 (0.48 acres) 2905 Maryland Avenue, North Versailles, Allegheny County; and, Site 5 (2 acres) 2526 Lovi Road, Freedom, Beaver County. Site 3 was removed on June 23, 2011 (A(27f)-45-2011).

The applicant is now requesting authority to include thirteen additional sites: Proposed Site 6 (20.14 acres) 520 Keystone Drive, Marshall, Allegheny County; Proposed Site 7 (5.29 acres) 547 Keystone Drive, Marshall, Allegheny County; Proposed Site 8 (3.02 acres) 7 Commerce Drive, Freedom, Beaver County; Proposed Site 9 (4.3 acres) 200 Productivity Place, Irwin, Westmoreland County; Proposed Site 10 (1.8 acres) 1 Beynard Way, Irwin, Westmoreland County; Proposed Site 11 (7.32 acres) 211 Park West Drive, Findlay, Allegheny County; Proposed Site 12 (9 acres) 801 North Pleasant Avenue, Somerset, Somerset County; Proposed Site 13 (1.12 acres) 58 Eastland Mall, North Versailles, Allegheny County; Proposed Site 14 (.92 acres) 13B and 14 Avenue B, Leetsdale, Allegheny County; Proposed Site 15 (.34 acres) 2301 Duss Avenue, Suite 1, Ambridge, Beaver County; Proposed Site 16 (4.55 acres) 3501 Grand Avenue, Neville, Allegheny County; Proposed Site 17 (16.4 acres) 108 Plunkett, Jackson, Butler County; and, Proposed Site 18 (.46 acres) 1061 Main Street, North Huntingdon, Westmoreland County. MEPPI's existing production authority would remain unchanged.

Proposed Site 15 of Subzone 33D is currently part of FTZ 33, Site 17. Approval of this request would remove .34 acres from FTZ 33, Site 17, leaving 79.45 acres remaining.

In accordance with the FTZ Board's regulations, Elizabeth Whiteman of the FTZ Staff is designated examiner to review the application and make recommendations to the FTZ Board.

Public comment is invited from interested parties. Submissions shall be addressed to the FTZ Board's Executive Secretary at the address below. The closing period for their receipt is October 7, 2013. Rebuttal comments in response to material submitted during the foregoing period may be submitted during the subsequent 15-day period to October 21, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: August 16, 2013.
Andrew McGilvray,
Executive Secretary.

[FR Doc. 2013-20760 Filed 8-23-13; 8:45 am]

BILLING CODE 3510-DS-P